DEPARTMENT OF DEFENSE

Department of the Navy

[Docket ID: USN-2025-HQ-0071]

Privacy Act of 1974; System of Records

AGENCY: Department of Navy (DON), Department of Defense (DoD).

ACTION: Notice of a new system of records.

SUMMARY: In accordance with the Privacy Act of 1974, the Department of Navy is publishing a new system of records titled, “Midshipmen Development Center (MDC) Records,” N01531-2. This system is being established to support the psychological and nutritional well-being of midshipmen at the United States Naval Academy. The system will enable the Midshipmen Development Center to collect and maintain records that cater to the unique needs of the Brigade of Midshipmen, promoting their overall development and success. Records include documentation of individual and group counseling sessions, psychological evaluations, treatment for eating disorders, crisis intervention services, consultations with psychologists, and performance enhancement support provided to midshipmen.

DATES: This new system of records is effective upon publication; however, comments on the Routine Uses will be accepted on or before August 27, 2025. The Routine Uses are effective at the close of the comment period, unless comments have been received from interested members of the public that require modification and republication of the notice.

ADDRESSES: You may submit comments, identified by docket number and title, by either of the following methods:

* Federal Rulemaking Portal: https://www.regulations.gov. Follow the instructions for submitting comments.

* Mail: Department of Defense, Office of the Assistant to the Secretary of Defense for Privacy, Civil Liberties and Transparency, Regulatory Directorate, 4800 Mark Center Drive, Attn: Mailbox 24, Suite 05F16, Alexandria, VA 22350-1700.

Instructions: All submissions received must include the agency name and docket number for this Federal Register document. The general policy for comments and other submissions from members of the public is to make these submissions available for public viewing on the internet at https://www.regulations.gov as they are received without change, including any personal identifiers or contact information.

FOR FURTHER INFORMATION CONTACT: Mr. Richard Strong, Director, PA/FOIA Office (DNS-36), Department of the Navy, 2000 Navy Pentagon, Washington, DC 20350-2000, or by phone at (202) 685-6533.

SUPPLEMENTARY INFORMATION:

I. Background

The Department of the Navy is establishing the Midshipmen Development Center (MDC) Records, N01531-2 as a Privacy Act system of records. The United States Naval Academy is establishing this system of records to collect and maintain information that supports the Midshipmen Development Center's mission to address the psychological and nutritional needs of the Brigade of Midshipmen. The records will include documentation of various services provided, such as individual and group counseling, psychological assessments, eating disorder treatment, crisis intervention, psychological consultations, and performance enhancement support, all aimed at promoting the well-being and development of midshipmen.

DoD system of records notices (SORNs) have been published in the Federal Register and are available from the address in FOR FURTHER INFORMATION CONTACT or at the Defense Privacy, Civil Liberties Directorate website at https://pclt.defense.gov/DIRECTORATES/Privacy-and-Civil-Liberties-Directorate/Privacy/SORNs/.

II. Privacy Act

Under the Privacy Act, a “system of records” is a group of records under the control of an agency from which information is retrieved by the name of an individual or by some identifying number, symbol, or other identifying particular assigned to the individual. In the Privacy Act, an individual is defined as a U.S. citizen or lawful permanent resident.

In accordance with 5 U.S.C. 552a(r) and Office of Management and Budget (OMB) Circular No. A-108, OATSD (PCLT) has provided a report of this system of records to the OMB and to Congress.

Dated: July 23, 2025.
Aaron T. Siegel,
Alternate OSD Federal Register Liaison Officer, Department of Defense.

SYSTEM NAME AND NUMBER:

Midshipmen Development Center (MDC) Records, N01531-2.

SECURITY CLASSIFICATION:

Unclassified.

SYSTEM LOCATION:

U.S. Naval Academy, 290 Buchanan Road, Annapolis, MD 21402-1304.

SYSTEM MANAGER:

The system manager is Superintendent, U.S. Naval Academy, 121 Blake Road, Annapolis, MD 21402-1300, 410-293-1550, privacy@usna.edu.

AUTHORITY FOR MAINTENANCE OF THE SYSTEM:

10 U.S.C. 8013, Secretary of the Navy; 10 U.S.C. 8451a, Superintendent; 10 U.S.C. 12205—Commissioned officers: appointment; educational requirement; and DoDI 1322.22, Service Academies.

PURPOSE(S) OF THE SYSTEM:

The system of records supports the U.S. Naval Academy's Midshipmen Development Center (MDC) in its mission to provide comprehensive psychological and nutritional support to the Brigade of Midshipmen, ensuring their overall well-being and success.

CATEGORIES OF INDIVIDUALS COVERED BY THE SYSTEM:

Naval Academy midshipmen seeking or referred for individual and group counseling, psychological assessments, eating disorder treatment, crisis intervention, psychological consultations, and performance enhancement assistance.

CATEGORIES OF RECORDS IN THE SYSTEM:

A. Personal information such as: name, date of birth, race and ethnicity, sex, contact information (phone number and email address), family information, personal interest information, and personal history.

B. Academic and military records such as: class ranking, quality point rating, military records to include alpha and company numbers.

C. Medical information such as: health history, health and wellbeing surveys, and physical records to include fitness assessments.

D. Counseling records such as: individual and group counseling, psychological assessments, eating disorder treatment, crisis intervention, psychological consultations, performance enhancement assistance.

RECORD SOURCE CATEGORIES:

Records and information stored in this system of records are obtained from the individual, clinical staff, and third parties such as friends, peers, chain of command, faculty and staff, or family.

ROUTINE USES OF RECORDS MAINTAINED IN THE SYSTEM, INCLUDING CATEGORIES OF USERS AND PURPOSES OF SUCH USES:

In addition to those disclosures generally permitted under 5 U.S.C. 552a(b) of the Privacy Act of 1974, as amended, all or a portion of the records or information contained herein may specifically be disclosed outside the DoD as a routine use pursuant to 5 U.S.C. 552a(b)(3) as follows:

A. To contractors, grantees, experts, consultants, students, and others performing or working on a contract, service, grant, cooperative agreement, or other assignment for the federal government when necessary to accomplish an agency function related to this system of records.

B. To the appropriate Federal, State, local, territorial, tribal, foreign, or international law enforcement authority or other appropriate entity where a record, either alone or in conjunction with other information, indicates a violation or potential violation of law, whether criminal, civil, or regulatory in nature.

C. To any component of the Department of Justice for the purpose of representing the DoD, or its components, officers, employees, or members in pending or potential litigation to which the record is pertinent.

D. In an appropriate proceeding before a court, grand jury, or administrative or adjudicative body or official, when the DoD or other Agency representing the DoD determines that the records are relevant and necessary to the proceeding; or in an appropriate proceeding before an administrative or adjudicative body when the adjudicator determines the records to be relevant to the proceeding.

E. To the National Archives and Records Administration for the purpose of records management inspections conducted under the authority of 44 U.S.C. 2904 and 2906.

F. To a Member of Congress or staff acting upon the Member's behalf when the Member or staff requests the information on behalf of, and at the request of, the individual who is the subject of the record.

G. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

H. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

I. To another Federal, State, or local agency for the purpose of comparing to the agency's system of records or to non-Federal records, in coordination with an Office of Inspector General in conducting an audit, investigation, inspection, evaluation, or some other review as authorized by the Inspector General Act, as amended.

J. To such recipients and under such circumstances and procedures as are mandated by Federal statute or treaty.

K. To military and civilian health care providers to further the medical care and treatment of the patient. Counseling records are not part of the official military medical record; however, if a patient's condition worsens or requires additional treatment not available at the MDC, information may be discussed with other health care providers in the agency or local health care providers in emergency situations.

L. To officials and employees of local and state governments and agencies in the performance of their official duties relating to professional certification, licensing, and accreditation of health care providers.

POLICIES AND PRACTICES FOR STORAGE OF RECORDS:

Records are stored electronically or on paper in secure facilities with restricted access.

POLICIES AND PRACTICES FOR RETRIEVAL OF RECORDS:

Records may be retrieved by name, student ID number, or email.

POLICIES AND PRACTICES FOR RETENTION AND DISPOSAL OF RECORDS:

Final Disposition Temporary. Destroy 1 year after cutoff or when no longer needed.

ADMINISTRATIVE, TECHNICAL, AND PHYSICAL SAFEGUARDS:

Paper records are stored in locked file containers, cabinets, vaults, or secured rooms with restricted access. Information maintained electronically requires role-based file access, Common Access Card (CAC), Public Key Infrastructure (PKI), and/or user ID and password. Data in transit is encrypted.

RECORD ACCESS PROCEDURES:

Individuals seeking access to their records should follow the procedures in 32 CFR part 310. Individuals should address written inquiries to the Department of Navy FOIA Requester Service Center, Office of Freedom of Information, foiaonline.gov, 2000 Navy Pentagon, Washington, DC 20350-2000. Signed written requests should contain the name and number of this system of records notice along with full name, current address, email address of the individual and telephone number. Requester should also include alpha number if known. In addition, the requester must provide either a notarized statement or an unsworn declaration made in accordance with 28 U.S.C. 1746, in the appropriate format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The DoD rules for accessing records, contesting contents, and appealing initial Component determinations are contained in 32 CFR part 310, or may be obtained from the system manager.

NOTIFICATION PROCEDURES:

Individuals seeking to determine whether information about themselves is contained in this system of records should follow the instructions for Record Access Procedures above.

EXEMPTIONS PROMULGATED FOR THE SYSTEM:

None.

HISTORY:

None.

[FR Doc. 2025-14115 Filed 7-25-25; 8:45 am]

BILLING CODE 6001-FR-P